DEPARTMENT OF LABOR

Comment Request for Information Collection for OMB Control No. 1205-0478: American Recovery and Reinvestment Act (ARRA) High Growth and Emerging Industries (HGEI) Grants, Extension With Revisions

AGENCY: Employment and Training Administration.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the collection of data for American Recovery and Reinvestment Act (ARRA) High Growth and Emerging Industries (HGEI) Grants, expiring on October 31, 2010. This notice utilizes standard clearance procedures in accordance with the Paperwork Reduction Act of 1995 and 5 CFR 1320.12. This information collection follows an emergency review that was conducted in accordance with the Paperwork Reduction Act of 1995 and 5 CFR 1320.13. The submission for OMB emergency review was approved on April 1, 2010. A copy of this ICR can be obtained from the RegInfo.gov Web site at http://www.reginfo.gov/public/do/PRAMain.

A copy of the current proposed information collection request (ICR) can be obtained by contacting the office listed below in the ADDRESSES section of this notice.

DATES: Written comments must be submitted to the office listed in the ADDRESSES section below on or before July 16, 2010.

ADDRESSES: Submit written comments to Dani Abdullah, Room N4643, Employment and Training Administration, 200 Constitution Avenue, NW., Washington, DC 20210. Telephone number: 202-693-3949 (this is not a toll-free number). Fax: 202-693-3890. E-mail: green.jobs@dol.gov. Please reference OMB Control Number 1205-0478 in the subject line of the e-mail.

SUPPLEMENTARY INFORMATION: I. Background: The American Recovery and Reinvestment Act of 2009 (The Recovery Act) was signed into law by President Obama on February 17, 2009. Among other funding directed to the Department of Labor, the Recovery Act provides $750 million for a program of competitive grants for worker training and placement in high growth and emerging industries, the American Recovery and Reinvestment Act (ARRA) High Growth and Emerging Industries (HGEI) grants. It is critical to record the impact of these Recovery Act resources, current information on participants in these grants, and the services provided to them. Therefore, to obtain comprehensive information on participants served by and services provided with Recovery Act resources, ETA proposes an extension with revisions of an information collection set for ARRA HGEI grantees.

II. Review Focus:

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions:

Type of Review: Extension with revisions.

Title: American Recovery and Reinvestment Act (ARRA) High Growth and Emerging Industries (HGEI) Grants.

OMB Number: 1205-0478.

Affected Public: ARRA HGEI Grantees (includes grantees that provide training and non-training grant-funded services).

Form(s): ETA-9153.

Total Annual Respondents: 244.

Annual Frequency: Quarterly.

Total Annual Responses: 976.

Average Time per Response (Training Grantees): 262 Hours.

Average Time per Response (Non-training Grantees): 16 Hours.

Estimated Total Annual Burden Hours (Training Grantees): 159,296 Hours.

Estimated Total Annual Burden Hours (Non-Training Grantees): 5,888 Hours.

Total Annual Burden Cost for Respondents: $0.

Comments submitted in response to this comment request will be summarized and/or included in the request for Office of Management and Budget approval of the information collection request; they will also become a matter of public record.

Signed: At Washington, DC this 7th day of May, 2010.
Jane Oates,
Assistant Secretary, Employment and Training Administration.

[FR Doc. 2010-11710 Filed 5-14-10; 8:45 am]

BILLING CODE 4510-FN-P